NUCLEAR REGULATORY COMMISSION

[NRC-2013-0001]

Sunshine Act Meetings

DATES: Weeks of October 21, 28, November 4, 11, 18, 25, 2013.

PLACE: Commissioners' Conference Room, 11555 Rockville Pike, Rockville, Maryland.

STATUS: Public and Closed.

Week of October 21, 2013

There are no meetings scheduled for the week of October 21, 2013.

Week of October 28, 2013—Tentative

Thursday, October 31, 2013

10:00 a.m. NRC All Employees Meeting (Public Meeting); Marriott Bethesda North Hotel; 5701 Marinelli Road, Rockville, MD 20852

Week of November 4, 2013—Tentative

There are no meetings scheduled for the week of November 4, 2013.

Week of November 11, 2013—Tentative

There are no meetings scheduled for the week of November 11, 2013.

Week of November 18, 2013—Tentative

Thursday, November 21, 2013

9:00 a.m. Briefing on Spent Fuel Pool Safety and Consideration of Expedited Transfer to Dry Casks (Public Meeting); (Contact: Kevin Witt, 301-415-2145).

This meeting will be webcast live at the Web address— http://www.nrc.gov/.

Week of November 25, 2013—Tentative

There are no meetings scheduled for the week of November 25, 2013.

* * * * *

Additional Information

The Briefing on Flooding and Other Extreme Weather Events scheduled on October 16, 2013, was postponed. The Meeting with the Advisory Committee on the Medical Uses of Isotopes and the Briefing on Proposed Rulemaking Concerning the Medical Use of Byproduct Material scheduled on October 18, 2013, were postponed.

* * * * *

The schedule for Commission meetings is subject to change on short notice. To verify the status of meetings, call (recording)—301-415-1292. Contact person for more information: Rochelle Bavol, 301-415-1651.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, or by email at Kimberly.Meyer-Chambers@nrc.gov. Determinations on requests for reasonable accommodation will be made on a case-by-case basis.

* * * * *

Members of the public may request to receive this information electronically. If you would like to be added to the distribution, please contact the Office of the Secretary, Washington, DC 20555 (301-415-1969), or send an email to Darlene.Wright@nrc.gov.

Dated: October 17, 2013.
Rochelle C. Bavol,
Policy Coordinator, Office of the Secretary.

[FR Doc. 2013-24868 Filed 10-18-13; 4:15 pm]

BILLING CODE 7590-01-P